DEPARTMENT OF EDUCATION

National Assessment Governing Board

Meetings

AGENCY: National Assessment Governing Board, Department of Education.

ACTION: Announcement of open and closed virtual meetings.

SUMMARY: This notice sets forth the agenda for a National Assessment Governing Board (hereafter referred to as Governing Board) meeting in September 2020. This notice provides information to members of the public who may be interested in attending the meeting or providing written comments related to the work of the Governing Board. Notice of this meeting is required under the Federal Advisory Committee Act (FACA). Participation in the open sessions of the meeting is via advance online registration at www.nagb.gov, which will open five working days prior to September 29, 2020.

DATES: The September 2020 meeting will be held on the following dates:

Open Meeting: September 29, 2020 3:00-3:30 p.m. (ET)

Closed Meeting, 3:45-5:15 p.m. (ET)

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. Information on the Governing Board and its work can be found at www.nagb.gov.

The Governing Board is established to formulate policy for the National Assessment of Educational Progress (NAEP) administered by the National Center for Education Statistics (NCES). The Governing Board's responsibilities include the following: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Written comments related to the work of the Governing Board may be submitted electronically or in hard copy to the attention of the Executive Officer/Designated Federal Official (see contact information noted above).

Governing Board Full Meeting: Open Meeting: September 29, 2020: 3:00-3:30 p.m. (ET); Closed Meeting, 3:45-5:15 p.m.

On September 29, 2020, the Governing Board will meet in open session from 3:00 p.m. to 3:30 p.m. The Governing Board Chair will lead a discussion on the final draft of the Strategic Vision, and the Governing Board will take action on its adoption. After this session, the Board will break for 15 minutes and begin the closed session at 3:45 p.m.

On September 29, 2020, the full Governing Board will convene in two closed sessions from 3:45 p.m. to 5:15 p.m.

The first closed session will convene from 3:45 p.m. to 4:30 p.m. to receive a briefing on embargoed results from the 2019 Nation's Report Cards in Reading and Mathematics for grade 12 students. These results have not been yet been released to the public and must be kept confidential until that time to maintain the security of the data and results. The discussions are protected by exemption 9(B) of § 552b(c) of Title 5 of the United States Code.

Following this briefing, the Governing Board will meet in a second closed session from 4:30 p.m. to 5:15 p.m. to discuss independent cost estimates related to the impact of the COVID-19 pandemic on the NAEP 2021 operations and subsequent potential impacts on the NAEP budget and assessment schedule. The discussions may impact current and future NAEP contracts and budgets and must be kept confidential. Public disclosure of this confidential information would significantly impede implementation of the NAEP assessment program if conducted in open session. Such matters are protected by exemption 9(B) of § 552b(c) of Title 5 of the United States Code. The September 29, 2020 meeting will adjourn at 5:15 p.m.

Access to Records of the Meeting: Pursuant to FACA requirements, the public may also inspect the meeting materials at www.nagb.gov five working days prior to each meeting. The official verbatim transcripts of the public meeting sessions will be available for public inspection no later than 30 calendar days following the meeting.

Reasonable Accommodations: The meeting is accessible to individuals with disabilities. If you will need an auxiliary aid or service to participate in the meeting (e.g., interpreting service, assistive listening device, or materials in an alternate format), notify the contact person listed in this notice no later than ten working days prior to each meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U.S. Department of Education.

[FR Doc. 2020-20267 Filed 9-23-20; 8:45 am]

BILLING CODE P